FEDERAL COMMUNICATIONS COMMISSION

47 CFR Part 73

[DA 01-1220, MM Docket No. 01-41, RM-10058]

Digital Television Broadcast Service; Merced, CA

AGENCY: Federal Communications Commission.

ACTION: Final rule.

SUMMARY: The Commission, at the request of Sainte 51, L.P., permittee of station KNSO(TV), substitutes DTV channel 5 for DTV channel 38 at Merced, California. See 66 FR 10982, February 21, 2001. DTV channel 5 can be allotted to Merced in compliance with the principle community coverage requirements of section 73.625(a) at reference coordinates (37-04-18 N. and 119-25-53 W.) with a power of 12.9, HAAT of 532 meters and with a DTV service population of 1452 thousand. With this action, this proceeding is terminated.

DATES: Effective July 2, 2001.

FOR FURTHER INFORMATION CONTACT: Pam Blumenthal, Mass Media Bureau, (202) 418-1600.

SUPPLEMENTARY INFORMATION: This is a synopsis of the Commission's Report and Order, MM Docket No. 01-41, adopted May 16, 2001, and released May 18, 2001. The full text of this Commission decision is available for inspection and copying during normal business hours in the FCC Reference Center 445 12th Street, SW., Washington, DC. The complete text of this decision may also be purchased from the Commission's copy contractor, International Transcription Services, Inc., (202) 857-3800, 1231 20th Street, NW., Washington, DC 20036.

List of Subjects in 47 CFR Part 73

Television, Digital television broadcasting.

Part 73 of Title 47 of the Code of Federal Regulations is amended as follows:

47 CFR Part 73—[Amended]

1. The authority citation for Part 73 continues to read as follows:

Authority: 47 U.S.C. 154, 303, 334, 336.

§ 73.622 [Amended]

2. Section 73.622(b), the Table of Digital Television Allotments under California, is amended by removing DTV channel 38 and adding DTV channel 5 at Merced.

Federal Communications Commission.
Barbara A. Kreisman,
Chief, Video Services Division, Mass Media Bureau.

[FR Doc. 01-12992 Filed 5-22-01; 8:45 am]

BILLING CODE 6712-01-P